DEPARTMENT OF COMMERCE

International Trade Administration

[A-570-832]

Pure Magnesium From the People's Republic of China: Final Results of Expedited Third Sunset Review of the Antidumping Duty Order

AGENCY: Import Administration, International Trade Administration, Department of Commerce.

SUMMARY: On June 1, 2011, the Department of Commerce (“the Department”) initiated the third five-year (“sunset”) review of the antidumping duty order on pure magnesium from the People's Republic of China (“PRC”) pursuant to section 751(c) of the Tariff Act of 1930, as amended (“the Act”). On the basis of a notice of intent to participate and adequate substantive response filed on behalf of the domestic interested party, and no adequate response from a respondent interested party, the Department conducted an expedited (120-day) sunset review of the antidumping duty order. As a result of this review, the Department finds that revocation of the antidumping duty order on pure magnesium from the PRC would be likely to lead to continuation or recurrence of dumping at the levels indicated in the “Final Results of Review” section of this notice.

DATES: Effective Date: October 6, 2011.

FOR FURTHER INFORMATION CONTACT: Brooke Kennedy, AD/CVD Operations, Import Administration, International Trade Administration, U.S. Department of Commerce, 14th Street and Constitution Avenue, NW., Washington, DC 20230; telephone: (202) 482-3818.

SUPPLEMENTARY INFORMATION:

Background

On June 1, 2011, the Department initiated the third sunset review of the antidumping duty order on pure magnesium from the PRC, pursuant to section 751(c) of the Act. See Initiation of Five-Year “Sunset” Review, 76 FR 31588 (June 1, 2011); see also Notice of Antidumping Duty Orders: Pure Magnesium From the People's Republic of China, the Russian Federation and Ukraine; Notice of Amended Final Determination of Sales at Less Than Fair Value: Antidumping Duty Investigation of Pure Magnesium From the Russian Federation, 60 FR 25691 (May 12, 1995) (“Order”). On June 13, 2011, the Department received notice of intent to participate on behalf of US Magnesium LLC (“US Magnesium”), within the applicable deadline specified in 19 CFR 351.218(d)(1)(i). See Letter from US Magnesium, Third Five-Year (“Sunset”) Review of Antidumping Duty Order On Pure Magnesium (Ingot) From the People's Republic of China: The Domestic Industry's Notice of Intent To Participate, dated June 13, 2011. The domestic interested party claimed interested party status under section 771(9)(C) of the Act, as a manufacturer of pure magnesium in the United States. On July 1, 2011, the Department received a complete substantive response from the domestic interested party within the 30-day deadline specified in 19 CFR 351.218(d)(3)(i). We received no substantive response from a respondent interested party in this proceeding. As a result, pursuant to 19 CFR 351.218(e)(1)(ii)(C), the Department conducted an expedited, 120-day, sunset review of this Order.

Scope of the Order

Merchandise covered by the order is pure magnesium regardless of chemistry, form or size, unless expressly excluded from the scope of the order. Pure magnesium is a metal or alloy containing by weight primarily the element magnesium and produced by decomposing raw materials into magnesium metal. Pure primary magnesium is used primarily as a chemical in the aluminum alloying, desulfurization, and chemical reduction industries. In addition, pure magnesium is used as an input in producing magnesium alloy. Pure magnesium encompasses products (including, but not limited to, butt ends, stubs, crowns and crystals) with the following primary magnesium contents:

(1) Products that contain at least 99.95% primary magnesium, by weight (generally referred to as “ultra pure” magnesium);

(2) Products that contain less than 99.95% but not less than 99.8% primary magnesium, by weight (generally referred to as “pure” magnesium); and

(3) Products that contain 50% or greater, but less than 99.8% primary magnesium, by weight, and that do not conform to ASTM specifications for alloy magnesium (generally referred to as “off-specification pure” magnesium).

“Off-specification pure” magnesium is pure primary magnesium containing magnesium scrap, secondary magnesium, oxidized magnesium or impurities (whether or not intentionally added) that cause the primary magnesium content to fall below 99.8% by weight. It generally does not contain, individually or in combination, 1.5% or more, by weight, of the following alloying elements: Aluminum, manganese, zinc, silicon, thorium, zirconium and rare earths.

Excluded from the scope of the order are alloy primary magnesium (that meets specifications for alloy magnesium), primary magnesium anodes, granular primary magnesium (including turnings, chips and powder) having a maximum physical dimension (i.e., length or diameter) of one inch or less, secondary magnesium (which has pure primary magnesium content of less than 50% by weight), and remelted magnesium whose pure primary magnesium content is less than 50% by weight.

Pure magnesium products covered by the order are currently classifiable under Harmonized Tariff Schedule of the United States (“HTSUS”) subheadings 8104.11.00, 8104.19.00, 8104.20.00, 8104.30.00, 8104.90.00, 3824.90.11, 3824.90.19 and 9817.00.90. Although the HTSUS subheadings are provided for convenience and customs purposes, our written description of the scope is dispositive.¹

¹ The Department has made two scope rulings regarding the subject merchandise. On November 9, 2006, the Department issued a scope ruling, finding that alloy magnesium extrusion billets produced in Canada by Timminco, Ltd. from pure magnesium of Chinese origin are not within the scope of Order. See Memorandum regarding Final Ruling in the Scope Inquiry on Russian and Chinese Magnesium Processed in Canada, dated November 9, 2006. On December 4, 2006, the Department issued a scope ruling, finding that pure magnesium produced in France using pure magnesium from the PRC is within the scope of the Order. See Memorandum regarding Final Ruling in the Scope Inquiry on Chinese Magnesium Processed in France, dated December 4, 2006.

Analysis of Comments Received

All issues raised by parties to this sunset review are addressed in the Issues and Decision Memorandum for the Final Results of the Expedited Third Sunset Review of the Antidumping Duty Order on Pure Magnesium from the People's Republic of China from Christian Marsh, Deputy Assistant Secretary for Antidumping and Countervailing Duty Operations, to Ronald K. Lorentzen, Deputy Assistant Secretary for Import Administration (“Decision Memorandum”), dated concurrently with this notice. The issues discussed in the Decision Memorandum include the likelihood of continuation or recurrence of dumping and the magnitude of the margins likely to prevail were the order revoked. Parties may find a complete discussion of all issues raised in this review and the corresponding recommendations in this public memorandum which is on file in the CRU. In addition, a complete version of the Decision Memorandum may be accessed directly on the Web at http://ia.ita.doc.gov/frn. The paper copy and electronic version of the Decision Memorandum are identical in content.

Final Results of Review

We determine that revocation of the Order would likely lead to continuation or recurrence of dumping at the following weighted-average percentage margins:

Manufacturers/Exporters/ Producers | Weighted- average margin
PRC-wide | 108.26%

Notification Regarding Administrative Protective Order

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

This sunset review and notice are in accordance with sections 751(c), 752, and 777(i)(1) of the Act.

Dated: September 29, 2011.
Ronald K. Lorentzen,
Deputy Assistant Secretary for Import Administration.

[FR Doc. 2011-25890 Filed 10-5-11; 8:45 am]

BILLING CODE 3510-DS-P